DEPARTMENT OF ENERGY

Federal Energy Regulatory Commission

Combined Notice of Filings

Take notice that the Commission has received the following Natural Gas Pipeline Rate and Refund Report filings:

Filings Instituting Proceedings

Docket Numbers: RP25-212-000.

Applicants: Guardian Pipeline, L.L.C.

Description: § 4(d) Rate Filing: Non-Conforming and Negotiated Rate Agreement FT0053 WMRE to be effective 10/16/2024.

Filed Date: 11/26/24.

Accession Number: 20241126-5008.

Comment Date: 5 p.m. ET 12/9/24.

Docket Numbers: RP25-213-000.

Applicants: Kern River Gas Transmission Company.

Description: § 4(d) Rate Filing: 2024 IPA Nonconforming TSA Filing to be effective 1/1/2025.

Filed Date: 11/26/24.

Accession Number: 20241126-5046.

Comment Date: 5 p.m. ET 12/9/24.

Docket Numbers: RP25-214-000.

Applicants: El Paso Natural Gas Company, L.L.C.

Description: § 4(d) Rate Filing: Non-Conforming Negotiated Rate Agreements (Mex Gas) to be effective 1/1/2025.

Filed Date: 11/26/24.

Accession Number: 20241126-5121.

Comment Date: 5 p.m. ET 12/9/24.

Docket Numbers: RP25-215-000.

Applicants: Tennessee Gas Pipeline Company, L.L.C.

Description: Compliance filing: Cashout Report 2023-2024 to be effective N/A.

Filed Date: 11/26/24.

Accession Number: 20241126-5127.

Comment Date: 5 p.m. ET 12/9/24.

Docket Numbers: RP25-216-000.

Applicants: Young Gas Storage Company, Ltd.

Description: § 4(d) Rate Filing: Annual Fuel Filing 2024 to be effective 1/1/2025.

Filed Date: 11/26/24.

Accession Number: 20241126-5131.

Comment Date: 5 p.m. ET 12/9/24.

Docket Numbers: RP25-217-000.

Applicants: Columbia Gas Transmission, LLC.

Description: § 4(d) Rate Filing: Capacity Release Eff 12.1.24 to be effective 12/1/2024.

Filed Date: 11/26/24.

Accession Number: 20241126-5138.

Comment Date: 5 p.m. ET 12/9/24.

Docket Numbers: RP25-218-000.

Applicants: El Paso Natural Gas Company, L.L.C.

Description: § 4(d) Rate Filing: Negotiated Rate Agreement Update (Hartree Dec 24) to be effective 12/1/2024.

Filed Date: 11/26/24.

Accession Number: 20241126-5139.

Comment Date: 5 p.m. ET 12/9/24.

Docket Numbers: RP25-219-000.

Applicants: MountainWest Pipeline, LLC.

Description: § 4(d) Rate Filing: Fuel Gas Reimbursement Percentage (FGRP) for 2025 to be effective 1/1/2025.

Filed Date: 11/26/24.

Accession Number: 20241126-5179.

Comment Date: 5 p.m. ET 12/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-257-014.

Applicants: Southwest Gas Storage Company.

Description: Compliance filing: Informational Filing—RP19-257-000, et al. to be effective N/A.

Filed Date: 11/25/24.

Accession Number: 20241125-5188.

Comment Date: 5 p.m. ET 12/9/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 26, 2024.
Carlos D. Clay,
Acting Deputy Secretary.

[FR Doc. 2024-28288 Filed 12-2-24; 8:45 am]

BILLING CODE 6717-01-P